PRESIDENT'S COUNCIL ON INTEGRITY AND EFFICIENCY

EXECUTIVE COUNCIL ON INTEGRITY AND EFFICIENCY

Senior Executive Service Performance Review Board Membership

AGENCY: President's Council on Integrity and Efficiency (PCIE) and Executive Council on Integrity and Efficiency (ECIE).

ACTION: Notice.

SUMMARY: This notice sets forth the names and titles of the current membership of the PCIE/ECIE Performance Review Board.

EFFECTIVE DATE: May 1, 2002

FOR FURTHER INFORMATION CONTACT: Individual Offices of (the) Inspector General.

SUPPLEMENTARY INFORMATION:

I. Background

The Inspector General's Act of 1978, as amended, has created independent audit and investigative units-Offices of (the) Inspector General-at 57 Federal agencies. In 1981, the President's Council on Integrity and Efficiency (PCIE) was established by Executive Order. Executive Order 12805 of May 11, 1992, reaffirmed the PCIE and established the Executive Council on Integrity and Efficiency (ECIE). Both councils are interagency committees chaired by the Office of Management and Budget's Deputy Director for Management. Their mission is to continually identify, review, and discuss areas of weakness and vulnerability in Federal programs and operations to fraud, waste, and abuse, and to develop plans for coordinated, Government-wide activities that address these problems and promote economy and efficiency in Federal programs and operations. PCIE members include the 29 Inspectors General appointed by the President; ECIE members include the 28 Inspectors General appointed by their respective agency heads.

II. PCIE Performance Review Board

Under 5 U.S.C. 4314(c) (1)-(5) and in accordance with regulations prescribed by the Office of Personnel Management, each agency is required to establish one or more Senior Executive Service (SES) performance review boards. The purpose of these boards is to review and evaluate the initial appraisal of a senior executive's performance by the supervisor, along with any recommendations to the appointing authority relative to the performance of the senior executive.

Mark W. Everson,
Controller/Office of Federal Financial Management.

The current members of the PCIE/ECIE Performance Review Board are as follows:

Members | Title
AGENCY FOR INTERNATIONAL DEVELOPMENT
James R. Ebbitt | Deputy Inspector General.
Adrienne Rish | Assistant Inspector General for Investigations.
Michael G. Carrol | Assistant Inspector General for Management.
Robert S. Perkins | Assistant Inspector General for Legal Counsel.
Bruce Crandlemire | Deputy Assistant Inspector General for Audit.
DEPARTMENT OF COMMERCE
Edward L. Blansitt | Deputy Inspector General.
Judith J. Gordon | Assistant Inspector General Systems Evaluation.
Elizabeth T. Barlow | Counsel to the Inspector General.
Jill A. Gross | Assistant Inspector General for Inspections and Evaluations.
DEPARTMENT OF DEFENSE
Carol Levy | Assistant Inspector General for Investigations.
David A. Brinkman | Director, Audit Follow-up & Technical Support Directorate.
Alan W. White | Director, Investigative Operations Directorate.
David Crane | Director for Intelligence Review.
Thomas J. Bonnar | Deputy Assistant Inspector General for Investigations.
Patricia A. Brannin | Deputy Assistant Inspector General for Audit Policy and Oversight.
C. Frank Broome | Director for Departmental Inquiries.
Joel L. Leson | Director for Administration and Information Management.
DEPARTMENT OF EDUCATION
Tom Carter | Assistant Inspector General for Audit Services.
Don Reid | Assistant Inspector General for Investigation Services.
Helen Lew | Deputy Assistant Inspector General for Audit Services.
DEPARTMENT OF HEALTH AND HUMAN SERVICES
Joe Green | Assistant Inspector General for Public Health Service Audits.
Dennis J. Duquette | Deputy Inspector General for Management & Policy.
Lewis Morris | Assistant Inspector General for Legal Affairs.
D. McCarty Thornton | Deputy Inspector General for Legal Affairs.
DEPARTMENT OF JUSTICE
Robert L. Ashbaugh | Deputy Inspector General.
Mary W. Demory | Senior Executive for Strategic Planning and Special Projects.
DEPARTMENT OF LABOR
Colleen B. Callahan | Deputy Inspector General for Management.
Stephen J. Cossu | Deputy Inspector General for Labor Racketeering& Fraud Investigations.
José Ralls | Administrative Officer.
Sylvia Horowitz | Counsel to the Inspector General.
DEPARTMENT OF TRANSPORTATION
Todd J. Zinser | Deputy Inspector General.
Alexis M. Stefani | Assistant Inspector General for Audits.
Thomas J. Howard | Deputy Assistant Inspector General for Maritime and Departmental Programs.
DEPARTMENT OF THE TREASURY
Dennis S. Schindel | Deputy Inspector General.
Marla A. Freedman | Assistant Inspector General for Audit.
Michael C. Tarr | Assistant Inspector General for Investigations.
William H. Pugh, III | Deputy Assistant Inspector General for Audit (Financial Management).
Elizabeth M. Redman | Deputy Assistant Inspector General for Investigations.
Richard K. Delmar | Counsel to the Inspector General.
DEPARTMENT OF THE TREASURY—TREASURY INSPECTOR GENERAL FOR TAX ADMINISTRATION
Pamela J. Gardiner | Deputy Inspector General for Audit.
Daniel R. Devlin | Assistant Inspector General for Audit (HQ Ops And Ex Org).
Gordon C. Milbourn | Assistant Inspector General for Audit (Small Business and Corporate Progs).
Scott E. Wilson | Assistant Inspector General for Audit (Info Sys. Prog.).
Robert C. Cortesi | Deputy Inspector General for Investigations.
David B. Buckley | Assistant Inspector General for Investigations.
Steven M. Jones | Assistant Inspector General for Investigations.
Elmer R. Stone | Assistant Inspector General for Investigations.
Mary Anne Curtin | Chief Counsel to the Inspector General.
Joseph I. Hungate | Assistant Inspector General for Info. Tech.
DEPARTMENT OF VETERANS AFFAIRS
Michael Slachta, Jr. | Assistant Inspector General for Auditing.
John Bilobran | Deputy Assistant Inspector General for Auditing.
Richard Ehrlichman | Deputy Assistant Inspector General for Management and Administration.
Alanson Schweitzer | Assistant Inspector General for Healthcare Inspections.
Michael Staley | Deputy Assistant Inspector General for Healthcare Inspections.
Maureen T. Regan | Counselor to the Inspector General.
ENVIRONMENTAL PROTECTION AGENCY
Gary Johnson | Deputy Inspector General.
Elissa Karpf | Assistant Inspector General for Planning, Analysis, and Results.
John Jones | Assistant Inspector General for Mission Systems.
Emmett Dashiell | Acting, Assistant Inspector for Investigations.
Mark Bialek | Counsel to the Inspector General.
FEDERAL COMMUNICATIONS COMMISSION
H. Walker Feaster | Inspector General.
FEDERAL EMERGENCY MANAGEMENT AGENCY
Richard L. Skinner | Deputy Inspector General.
Nancy L. Hendricks | Assistant Inspector General for Audits.
Joseph G. Sullivan | Assistant Inspector General for Investigations.
GENERAL SERVICES ADMINISTRATION
Joel S. Gallay | Deputy Inspector General.
Kathleen S. Tighe | Counsel to the Inspector General.
James E. Henderson | Assistant Inspector General for Investigations.
Eugene L. Waszily | Assistant Inspector General for Auditing.
NATIONAL AERONAUTICS AND SPACE ADMINISTRATION
David M. Cushing | Assistant Inspector General for Inspections & Assessments.
Francis P. LaRocca | Counsel to the Inspector General.
Alan J. Lamoreaux | Assistant Inspector General for Auditing.
NATIONAL SCIENCE FOUNDATION
Thomas Cross | Deputy Inspector General.
NUCLEAR REGULATORY COMMISSION
David C. Lee | Deputy Inspector General.
Stephen D. Dingbaum | Assistant Inspector General for Audits.
OFFICE OF PERSONNEL MANAGEMENT
Joseph R. Willever | Deputy Inspector General.
Harvey D. Thorp | Assistant Inspector General for Audits.
Norbert E. Vint | Assistant Inspector General for Investigations.
E. Jeremy Hutton | Assistant Inspector General for Legal Affairs.
RAILROAD RETIREMENT BOARD
William H. Tebbe | Assistant Inspector General for Investigations.
Henrietta B. Shaw | Assistant Inspector General for Audit.
SMALL BUSINESS ADMINISTRATION
Peter L. McClintock | Deputy Inspector General.
David Gray | Counsel to the Inspector General.
Robert G. Seabrooks | Assistant Inspector General for Auditing.
Emilie Baebel | Assistant Inspector General for Inspection & Evaluation.
Mark Woods | Assistant Inspector General for Investigations.
SOCIAL SECURITY ADMINISTRATION
Steve Schaeffer | Assistant Inspector General for Audit.
Patrick O'Carroll | Assistant Inspector General for Investigations.
Kathy Buller | Counsel to the Inspector General.
EQUAL EMPLOYMENT OPPORTUNITY COMMISSION
Aletha Brown | Inspector General.

[FR Doc. 02-10545 Filed 4-29-02; 8:45 am]

BILLING CODE 3110-01-P